NATIONAL AERONAUTICS AND SPACE ADMINISTRATION

[Notice 00-083]

Information Collection: Submission for OMB Review, Comment Request

AGENCY: National Aeronautics and Space Administration (NASA).

ACTION: Notice of Agency report forms under OMB review.

SUMMARY: The National Aeronautics and Space Administration has submitted to the Office of Management and Budget (OMB) the following proposal for the collection of information under the provisions of the Paperwork Reduction Act (44 U.S.C. Chapter 35).

DATES: Comments on this proposal should be received on or before August 31, 2000.

ADDRESSES: All comments should be addressed to Mr. Harry Lupuloff, Office of the General Counsel, Code GP, National Aeronautics and Space Administration, Washington, DC 20546-0001.

FOR FURTHER INFORMATION CONTACT: Ms. Carmela Simonson, Office of the Chief Information Officer, (202) 358-1223.

Reports: None.

Title: Patent License Report.

OMB Number: 2700-0010.

Type of review: Extension.

Need and Uses: Each licensee is required to report annually on its activities in commercializing its licensed inventions and any royalties due. NASA uses information collected to monitor the activities of its licensees.

Affected Public: Individuals or households, business or other for-profit.

Number of Respondents: 60.

Responses Per Respondent: 1.

Annual Responses: 60.

Hours Per Request: 30 min.

Annual Burden Hours: 30.

Frequency of Report: Annually.

David B. Nelson,
Deputy Chief Information Officer, Office of the Administrator.

[FR Doc. 00-19328 Filed 7-31-00; 8:45 am]

BILLING CODE 7510-01-P